DEPARTMENT OF HEALTH AND HUMAN SERVICES

Food and Drug Administration

[Docket No. FDA-2010-N-0001]

Advisory Committees; Tentative Schedule of Meetings for 2011

AGENCY: Food and Drug Administration, HHS.

ACTION: Notice.

SUMMARY: The Food and Drug Administration (FDA) is announcing a tentative schedule of forthcoming meetings of its public advisory committees for 2011. During 1991, at the request of the Commissioner of Food and Drugs (the Commissioner), the Institute of Medicine (the IOM) conducted a study of the use of FDA's advisory committees. In its final report, one of the IOM's recommendations was for the Agency to publish an annual tentative schedule of its meetings in the Federal Register. This publication implements the IOM's recommendation.

FOR FURTHER INFORMATION CONTACT: Teresa L. Hays, Advisory Committee Oversight and Management Staff (HF-4), Food and Drug Administration, 10903 New Hampshire Ave., Bldg. 32, Rm. 5290, Silver Spring, MD 20993-0002, 301-796-8220.

SUPPLEMENTARY INFORMATION: The IOM, at the request of the Commissioner, undertook a study of the use of FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative, amendments to this notice will not be published in the Federal Register. However, changes to the schedule will be posted on the FDA advisory committees' Internet site located at http://www.fda.gov/AdvisoryCommittees/default.htm. FDA will continue to publish a Federal Register notice 15 days in advance of each upcoming advisory committee meeting, to announce the meeting (21 CFR 14.20).

The following list announces FDA's tentatively scheduled advisory committee meetings for 2011.

Table 1
Committee name | Tentative date(s) of meeting(s)
OFFICE OF THE COMMISSIONER
Pediatric Advisory Committee | March 21, June 21-22, December 5-6.
Risk Communication Advisory Committee | February 10-11, May 5-6, August 15-16, November 17-18.
Science Board to the Food and Drug Administration | February 25, May 20, August 19, November 10.
CENTER FOR BIOLOGICS EVALUATION AND RESEARCH
Allergenic Products Advisory Committee | May 12.
Blood Products Advisory Committee | April 28-29, August 3-4, December 1-2.
Cellular, Tissue and Gene Therapies Advisory Committee | February 10, September 22-23.
Transmissible Spongiform Encephalopathies Advisory Committee | Date(s), if needed, to be determined.
Vaccines and Related Biological Products Advisory Committee | February 24-25, May 18-19, September 20-21, November 16-17.
CENTER FOR DRUG EVALUATION AND RESEARCH
Anesthetic and Life Support Drugs Advisory Committee | March 10.
Anti-Infective Drugs Advisory Committee | April date(s), if needed, to be determined.
Antiviral Drugs Advisory Committee | April 27-29.
Arthritis Advisory Committee | March 15-16, May 3.
Cardiovascular and Renal Drugs Advisory Committee | March 31, April 1, July 26-27, October 20-21, December 13-14.
Dermatologic and Ophthalmic Drugs Advisory Committee | April 13.
Drug Safety and Risk Management Advisory Committee | Date(s), if needed, to be determined.
Endocrinologic and Metabolic Drugs Advisory Committee | March 24.
Gastrointestinal Drugs Advisory Committee | January 12, March 8, May date(s), if needed, to be determined.
Nonprescription Drugs Advisory Committee | February 23-24.
Oncologic Drugs Advisory Committee | February 8-9, March 29-30, June 28-29, July 13-14, September 14-15, December 7-8.
Peripheral and Central Nervous System Drugs Advisory Committee | January 20-21, March 10.
Advisory Committee for Pharmaceutical Science and Clinical Pharmacology | March 2.
Psychopharmacologic Drugs Advisory Committee | Date(s), if needed, to be determined.
Pulmonary-Allergy Drugs Advisory Committee | March 8.
Advisory Committee for Reproductive Health Drugs | March 4, April and May date(s), if needed, to be determined.
CENTER FOR DEVICES AND RADIOLOGICAL HEALTH
Medical Devices Advisory Committee (Comprised of 18 Panels)
Anesthesiology and Respiratory Therapy Devices Panel | April 15.
Circulatory System Devices Panel | January 25-26, February 24-25, March 24-25, April 28-29, December 8-9.
Clinical Chemistry and Clinical Toxicology Devices Panel | November 9.
Dental Products Panel | April 12-13, September 8-9.
Ear, Nose, and Throat Devices Panel | September 28-29.
Gastroenterology-Urology Devices Panel | January 20-21, April 21-22, July 14-15, October 27-28.
General and Plastic Surgery Devices Panel | February 24-25, May 12-13, August 11-12, November 17-18.
General Hospital and Personal Use Devices Panel | July 29.
Hematology and Pathology Devices Panel | March 24-25, June 9-10, September 15-16, December 15-16.
Immunology Devices Panel | March 31, June 30, September 29, December 1.
Medical Devices Dispute Resolution Panel | April 8.
Microbiology Devices Panel | October 13.
Molecular and Clinical Genetics Panel | March 3-4.
Neurological Devices Panel | January 27-28, March 17.
Obstetrics and Gynecology Devices Panel | May 19-20, September 22-23.
Ophthalmic Devices Panel | February 18.
Orthopedic and Rehabilitation Devices Panel | April 26-27, July 8.
Radiological Devices Panel | June 17, October 27-28.
National Mammography Quality Assurance Advisory Committee | May 6, August 9.
Technical Electronic Product Radiation Safety Standards Committee | May 25.
CENTER FOR FOOD SAFETY AND APPLIED NUTRITION
Food Advisory Committee | March 30-31.
CENTER FOR TOBACCO PRODUCTS
Tobacco Products Scientific Advisory Committee | January 10-11, March 17-18, May, July, September, and November date(s), if needed, to be determined.
CENTER FOR VETERINARY MEDICINE
Veterinary Medicine Advisory Committee | April 11, September 12.
NATIONAL CENTER FOR TOXICOLOGICAL RESEARCH
Science Advisory Board | November 9-10.

Dated: December 16, 2010.
Jill Hartzler Warner,
Acting Associate Commissioner for Special Medical Programs.

[FR Doc. 2010-31961 Filed 12-20-10; 8:45 am]

BILLING CODE 4160-01-P